FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 13, 2019.

A. Federal Reserve Bank of Chicago (Colette A. Fried, Assistant Vice President) 230 South LaSalle Street, Chicago, Illinois 60690-1414:

1. Margaret Kirschner GST Separate Trust for Pamela Kirschner Bolduc, David E. Kirschner, trustee; Margaret Kirschner GST Separate Trust for Philip S. Kirschner, David E. Kirschner, trustee; Margaret Kirschner GST Separate Trust for Mary C. Kirschner, David E. Kirschner, trustee; Margaret Kirschner GST Separate Trust for David E. Kirschner, David E. Kirschner, trustee; Henry C. Kirschner Beneficiary Trust B1 for Pamela K. Bolduc, Pamela K. Bolduc, Trustee, David E. Kirschner, Special Asset Advisor; Henry C. Kirschner Beneficiary Trust B1 for Philip S. Kirschner, Philip S. Kirschner, trustee, David E. Kirschner, Special Asset Advisor; Henry C. Kirschner Beneficiary Trust B1 for Mary C. Kirschner, David E. Kirschner, trustee; Henry C. Kirschner Beneficiary Trust B1 for David E. Kirschner, David E. Kirschner, trustee; and Mary C. Kirschner, individually c/o David E. Kirschner, all of Springfield, Illinois, as a group acting in concert; to retain voting shares of Town and Country Financial Corporation and thereby indirectly retain shares of Town and Country Bank, both of Springfield, Illinois.

Board of Governors of the Federal Reserve System, April 23, 2019.
Yao-Chin Chao,
Assistant Secretary of the Board.

[FR Doc. 2019-08453 Filed 4-25-19; 8:45 am]

BILLING CODE P